DEPARTMENT OF STATE

[Public Notice: 10189]

In the Matter of the Amendment of the Designation of Abdallah Azzam Brigades (and Other Aliases) as a Specially Designated Global Terrorist

Based upon a review of the administrative record assembled in this matter, and in consultation with the Attorney General and the Secretary of the Treasury, I have concluded that there is a sufficient factual basis to find that Abdallah Azzam Brigades (and other aliases) is also known as Marwan Hadid Brigades, also known as Marwan Hadid Brigade.

Therefore, pursuant to Section 1(b) of Executive Order 13224, I hereby amend the designation of Abdallah Azzam Brigades as a Specially Designated Global Terrorist to include the following new aliases: Marwan Hadid Brigades, also known as Marwan Hadid Brigade.

This determination shall be published in the Federal Register.

Dated: September 27, 2017.
Rex W. Tillerson,
Secretary of State.

[FR Doc. 2017-23788 Filed 11-1-17; 8:45 am]

BILLING CODE 4710-AD-P